NATIONAL TRANSPORTATION SAFETY BOARD

Notice of Meeting; Sunshine Act

Time and Date: 9:30 a.m., Tuesday, October 31, 2006.

Place: NTSB Conference Center, 429 L'Enfant Plaza, SW., Washington, DC 20594.

Status: The one item is open to the public.

Matters to be Considered:

7715A—Aircraft Accident Report—Runway Overrun and Collision, Platinum Jet Management, LLC, Bombardier Challenger CL-600-1A11, N370V, Teterboro, New Jersey, February 2, 2005.

News Media Contact: Keith Holloway, Telephone: (202) 314-6100.

Individuals requesting specific accommodations should contact Chris Bisett at (202) 314-6305 by Friday, October 27, 2006.

The public may view the meeting via a live or archived webcast by accessing a link under “News & Events” on the NTSB home page at www.ntsb.gov.

FOR FURTHER INFORMATION CONTACT: Vicky D'Onofrio, (202) 314-6410.

Dated: October 20, 2006.
Vicky D'Onofrio,
Federal Register Liaison Officer.

[FR Doc. 06-8894 Filed 10-20-06; 2:59 pm]

BILLING CODE 7533-01-M